DEPARTMENT OF HEALTH AND HUMAN SERVICES

Agency for Toxic Substances and Disease Registry; Notice of Intent To Develop Set 28 Toxicological Profiles

AGENCY: Agency for Toxic Substances and Disease Registry (ATSDR), Department of Health and Human Services (HHS).

ACTION: Notice of development.

SUMMARY: This notice announces the development of Set 28 Toxicological Profiles. Set 28 Toxicological Profiles consists of one updated profile and three new profiles. These profiles will be available to the public on or about October 17, 2015. Electronic access to these documents will be available at the ATSDR Web site: http://www.atsdr.cdc.gov/toxprofiles/index.asp.

FOR FURTHER INFORMATION CONTACT: Commander Jessilynn B. Taylor, Division of Toxicology and Human Health Sciences, Agency for Toxic Substances and Disease Registry, 1600 Clifton Road NE., Mail Stop F-57, Atlanta, GA 30333, telephone 770-488-3313.

SUPPLEMENTARY INFORMATION: The Superfund Amendments and Reauthorization Act of 1986 (SARA) (42 U.S.C. 9601 et seq.) amended the Comprehensive Environmental Response, Compensation, and Liability Act of 1980 (CERCLA or Superfund) (42 U.S.C. 9601 et seq.) by establishing certain requirements for ATSDR and the U.S. Environmental Protection Agency (EPA) with regard to hazardous substances that are most commonly found at facilities on the CERCLA National Priorities List (NPL). Among these statutory requirements is a mandate for the Administrator of ATSDR to prepare toxicological profiles for each substance included on the Priority List of Hazardous Substances (www.atsdr.cdc.gov/SPL). This list names 275 hazardous substances that pose the most significant potential threat to human health as determined by ATSDR and EPA. The availability of the revised list of the 275 priority substances was announced in the Federal Register on May 28, 2014 (79 FR 30613). For prior versions of the list of substances, see Federal Register notices dated November 3, 2011 (76 FR 68193); March 6, 2008 (73 FR 12178); December 7, 2005 (70 FR 72840 ; November 7, 2003 (68 FR 63098); October 25, 2001 (66 FR 54014); October 21, 1999 (64 FR 56792); November 17, 1997 (62 FR 61332); April 29, 1996 (61 FR 18744); February 28, 1994 (59 FR 9486); October 28, 1992 (57 FR 48801); October 17, 1991 (56 FR 52166); October 17, 1990 (55 FR 42067); October 26, 1989 (54 FR 43615); October 20, 1988 (53 FR 41280); and April 17, 1987 (52 FR 12866).

Set 28 Toxicological Profiles

The following toxicological profiles are being developed:

| Name | CAS
1 | Antimony (UPDATE) | 7440-36-0
2 | Glyphosate | 1071-83-6
3 | 2-4, Dichlorophenoxyacetic acid | 94-75-7
4 | Silica | 7631-86-9

Notice of the availability of drafts of these four toxicological profiles for public review and comment will be published in the Federal Register on/or about October 17, 2015, with notice of a 90-day public comment period for each profile, starting from the actual release date. Following the close of the comment period, chemical-specific comments will be addressed, and, where appropriate, changes will be incorporated into each profile.

Dated: February 3, 2015.
Sascha Chaney,
Acting Director, Office of Policy Planning and Evaluation, National Center for Environmental Health/, Agency for Toxic Substances and Disease Registry.

[FR Doc. 2015-02548 Filed 2-11-15; 8:45 am]

BILLING CODE 4163-70-P